POSTAL SERVICE

39 CFR Part 241

Post Office Organization and Administration: Discontinuance of USPS-Operated Retail Facilities

Correction

In rule document 2022-10283, appearing on page 29673 in the issue of Monday, May 16, 2022, make the following correction:

§ 241.3 Discontinuance of USPS-operated retail facilities. [corrected]

On page 29673, in the second column, in the second instruction, on the second and third lines, “(b)(2) and (d)(3) introductory text” should read, “(b)(2) introductory text and (d)(3) introductory text”.

[FR Doc. C1-2022-10283 Filed 5-19-22; 8:45 am]

BILLING CODE 0099-10-P